DEPARTMENT OF HOMELAND SECURITY

Federal Emergency Management Agency

44 CFR Part 64

[Docket ID FEMA-2011-0002; Internal Agency Docket No. FEMA-8211]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
West Virginia:
Addison, Town of, Webster County | 540204 | May 13, 1975, Emerg; February 16, 1990, Reg; January 6, 2012, Susp | Jan. 6, 2012 | Jan. 6, 2012.
Camden-On-Gauley, Town of, Webster County | 540205 | August 6, 1975, Emerg; August 24, 1984, Reg; January 6, 2012, Susp | ......do | Do.
Cowen, Town of, Webster County | 540206 | August 18, 1975, Emerg; August 24, 1984, Reg; January 6, 2012, Susp | ......do | Do.
Webster County, Unincorporated Areas | 540203 | December 2, 1975, Emerg; February 16, 1990, Reg; January 6, 2012, Susp | ......do | Do. | Region IV
Mississippi:
Greene County, Unincorporated Areas | 280271 | July 9, 1976, Emerg; September 18, 1985, Reg; January 6, 2012, Susp | ......do | Do.
Leakesville, Town of, Greene County | 280057 | March 23, 1976, Emerg; September 30, 1988, Reg; January 6, 2012, Susp | ......do | Do.
McLain, Town of, Greene County | 280058 | November 12, 1974, Emerg; December 1, 1983, Reg; January 6, 2012, Susp | ......do | Do.
Tennessee:
Jasper, Town of, Marion County | 475429 | July 30, 1971, Emerg; February 26, 1972, Reg; January 6, 2012, Susp | ......do | Do.
Kimball, Town of, Marion County | 470116 | July 1, 1975, Emerg; May 19, 1987, Reg; January 6, 2012, Susp | ......do | Do.
Marion County, Unincorporated Areas | 470114 | October 23, 1973, Emerg; May 15, 1980, Reg; January 6, 2012, Susp | ......do | Do.
New Hope, Town of, Marion County | 470377 | October 5, 1981, Emerg; September 27, 1985, Reg; January 6, 2012, Susp | ......do | Do.
Powells Crossroads, Town of, Marion County | 470456 | N/A, Emerg; May 7, 2009, Reg; January 6, 2012, Susp | ......do | Do.
South Pittsburg, City of, Marion County | 475447 | July 9, 1971, Emerg; April 14, 1972, Reg; January 6, 2012, Susp | ......do | Do.
Whitwell, City of, Marion County | 470118 | N/A, Emerg; July 10, 2009, Reg; January 6, 2012, Susp | ......do | Do.
Region V
Illinois:
Bath, Village of, Mason County | 170464 | April 4, 1979, Emerg; January 5, 1984, Reg; January 6, 2012, Susp | ......do | Do.
Havana, City of, Mason County | 170465 | July 23, 1981, Emerg; July 23, 1981, Reg; January 6, 2012, Susp | ......do | Do.
Mason City, City of, Mason County | 170466 | December 12, 1975, Emerg; July 18, 1985, Reg; January 6, 2012, Susp | ......do | Do.
Mason County, Unincorporated Areas | 170463 | January 19, 1977, Emerg; February 1, 1984, Reg; January 6, 2012, Susp | ......do | Do.
Michigan:
Alabaster, Township of, Iosco County | 260249 | November 20, 1973, Emerg; February 19, 1987, Reg; January 6, 2012, Susp | ......do | Do.
Au Sable, Township of, Iosco County | 260098 | May 25, 1973, Emerg; January 6, 1988, Reg; January 6, 2012, Susp | ......do | Do.
East Tawas, City of, Iosco County | 260100 | May 1, 1973, Emerg; September 30, 1977, Reg; January 6, 2012, Susp | ......do | Do.
Oscoda, Township of, Iosco County | 260101 | May 15, 1973, Emerg; September 1, 1978, Reg; January 6, 2012, Susp | ......do | Do.
Tawas City, City of, Iosco County | 260102 | July 23, 1973, Emerg; February 15, 1978, Reg; January 6, 2012, Susp | ......do | Do.
Croswell, City of, Sanilac County | 260515 | October 13, 1976, Emerg; August 19, 1986, Reg; January 6, 2012, Susp | ......do | Do.
Delaware, Township of, Sanilac County | 260756 | April 7, 1986, Emerg; December 18, 1986, Reg; January 6, 2012, Susp | ......do | Do.
Forester, Township of, Sanilac County | 260771 | August 4, 1986, Emerg; September 18, 1987, Reg; January 6, 2012, Susp | ......do | Do.
Lexington, Township of, Sanilac County | 260718 | March 4, 1980, Emerg; January 15, 1988, Reg; January 6, 2012, Susp | ......do | Do.
Port Sanilac, Village of, Sanilac County | 260779 | September 26, 1986, Emerg; April 15, 1988, Reg; January 6, 2012, Susp | ......do | Do.
Sanilac, Township of, Sanilac County | 260791 | January 20, 1987, Emerg; September 18, 1987, Reg; January 6, 2012, Susp | ......do | Do.
Worth, Township of, Sanilac County | 260296 | June 7, 1974, Emerg; June 1, 1987, Reg; January 6, 2012, Susp | ......do | Do.
Ohio:
Bremen, Village of, Fairfield County | 390160 | July 22, 1975, Emerg; September 2, 1982, Reg; January 6, 2012, Susp | ......do | Do.
Buckeye Lake, Village of, Fairfield County | 390882 | April 26, 1983, Emerg; August 15, 1984, Reg; January 6, 2012, Susp | ......do | Do.
Lancaster, City of, Fairfield County | 390161 | July 28, 1975, Emerg; May 1, 1980, Reg; January 6, 2012, Susp | ......do | Do.
Millersport, Village of, Fairfield County | 390689 | May 8, 1990, Emerg; February 1, 1991, Reg; January 6, 2012, Susp | ......do | Do.
Pickerington, City of, Fairfield County | 390162 | June 11, 1976, Emerg; August 5, 1991, Reg; January 6, 2012, Susp | ......do | Do.
Sugar Grove, Village of, Fairfield County | 390163 | June 25, 1975, Emerg; September 2, 1982, Reg; January 6, 2012, Susp | ......do | Do.
Thurston, Village of, Fairfield County | 390690 | October 1, 1976, Emerg; November 23, 1984, Reg; January 6, 2012, Susp | ......do | Do.
Wisconsin:
Bangor, Village of, La Crosse County | 550218 | January 20, 1975, Emerg; January 2, 1981, Reg; January 6, 2012, Susp | ......do | Do.
Holmen, Village of, La Crosse County | 550219 | June 27, 1975, Emerg; April 20, 1979, Reg; January 6, 2012, Susp | ......do | Do.
La Crosse, City of, La Crosse County | 555562 | December 4, 1970, Emerg; January 15, 1971, Reg; January 6, 2012, Susp | ......do | Do.
La Crosse County, Unincorporated Areas | 550217 | March 26, 1971, Emerg; March 15, 1984, Reg; January 6, 2012, Susp | ......do | Do.
Onalaska, City of, La Crosse County | 550221 | July 3, 1975, Emerg; September 16, 1981, Reg; January 6, 2012, Susp | ......do | Do.
Rockland, Village of, La Crosse County | 550222 | N/A, Emerg; March 9, 2010, Reg; January 6, 2012, Susp | ......do | Do.
West Salem, Village of, La Crosse County | 550560 | April 17, 1986, Emerg; April 17, 1986, Reg; January 6, 2012, Susp | ......do | Do.
Region VI
Texas:
Caddo Mills, City of, Hunt County | 480364 | N/A, Emerg; March 6, 2008, Reg; January 6, 2012, Susp | ......do | Do.
Celeste, City of, Hunt County | 480365 | February 11, 1985, Emerg; September 1, 1987, Reg; January 6, 2012, Susp | ......do | Do.
Commerce, City of, Hunt County | 480366 | April 10, 1975, Emerg; March 2, 1981, Reg; January 6, 2012, Susp | ......do | Do.
Greenville, City of, Hunt County | 485473 | December 31, 1970, Emerg; August 13, 1971, Reg; January 6, 2012, Susp | ......do | Do.
Josephine, City of, Hunt County | 480756 | N/A, Emerg; December 15, 1995, Reg; January 6, 2012, Susp | ......do | Do.
Royse City, City of, Hunt County | 480548 | July 3, 1975, Emerg; July 16, 1980, Reg; January 6, 2012, Susp | ......do | Do.
Tuscola, Town of, Taylor County | 481017 | October 30, 1979, Emerg; November 1, 1989, Reg; January 6, 2012, Susp | ......do | Do.
Union Valley, City of, Hunt County | 480246 | N/A, Emerg; April 1, 2010, Reg; January 6, 2012, Susp | ......do | Do.
Region VII
Nebraska:
Arlington, Village of, Washington County | 310227 | June 11, 1975, Emerg; January 16, 1981, Reg; January 6, 2012, Susp | ......do | Do.
Blair, City of, Washington County | 310228 | September 17, 1974, Emerg; July 16, 1981, Reg; January 6, 2012, Susp | ......do | Do.
Dakota City, City of, Dakota County | 310053 | December 17, 1974, Emerg; September 16, 1981, Reg; January 6, 2012, Susp | ......do | Do.
Dakota County, Unincorporated Areas | 310429 | August 18, 1975, Emerg; April 15, 1982, Reg; January 6, 2012, Susp | ......do | Do.
Fort Calhoun, City of, Washington County | 310368 | September 10, 1976, Emerg; December 1, 1983, Reg; January 6, 2012, Susp | ......do | Do.
Herman, Village of, Washington County | 310229 | January 10, 1975, Emerg; March 18, 1985, Reg; January 6, 2012, Susp | ......do | Do.
Homer, Village of, Dakota County | 310241 | March 26, 1975, Emerg; April 3, 1984, Reg; January 6, 2012, Susp | ......do | Do.
Jackson, Village of, Dakota County | 310292 | May 6, 1977, Emerg; September 4, 1987, Reg; January 6, 2012, Susp | ......do | Do.
Kennard, Village of, Washington County | 310230 | March 26, 1975, Emerg; September 18, 1985, Reg; January 6, 2012, Susp | ......do | Do.
Washington, Village of, Washington County | 315496 | April 4, 1986, Emerg; September 14, 1990, Reg; January 6, 2012, Susp | ......do | Do.
Washington County, Unincorporated Areas | 310483 | September 4, 1975, Emerg; February 4, 1981, Reg; January 6, 2012, Susp | ......do | Do.
Region VIII
Colorado:
Canon City, City of, Fremont County | 080068 | May 28, 1974, Emerg; November 3, 1982, Reg; January 6, 2012, Susp | ......do | Do.
Coal Creek, Town of, Fremont County | 080210 | N/A, Emerg; February 4, 2011, Reg; January 6, 2012, Susp | ......do | Do.
Florence, City of, Fremont County | 080070 | June 25, 1975, Emerg; December 4, 1984, Reg; January 6, 2012, Susp | ......do | Do.
Fremont County, Unincorporated Areas | 080067 | June 25, 1975, Emerg; September 29, 1989, Reg; January 6, 2012, Susp | ......do | Do.
Montrose, City of, Montrose County | 080125 | January 31, 1975, Emerg; March 1, 1984, Reg; January 6, 2012, Susp | ......do | Do.
Montrose County, Unincorporated Areas | 080124 | May 23, 1975, Emerg; February 15, 1984, Reg; January 6, 2012, Susp | ......do | Do.
Naturita, Town of, Montrose County | 080126 | June 18, 1975, Emerg; January 6, 1982, Reg; January 6, 2012, Susp | ......do | Do.
Olathe, Town of, Montrose County | 080128 | June 5, 1975, Emerg; September 16, 1982, Reg; January 6, 2012, Susp | ......do | Do.
Rockvale, Town of, Fremont County | 080221 | September 21, 1979, Emerg; October 15, 1985, Reg; January 6, 2012, Susp | ......do | Do.
Montana:
Butte-Silver Bow County, All Jurisdictions | 300077 | September 17, 1974, Emerg; September 28, 1979, Reg; January 6, 2012, Susp | ......do | Do.
South Dakota:
Belle Fourche, City of, Butte County | 460012 | May 3, 1973, Emerg; June 1, 1977, Reg; January 6, 2012, Susp | ......do | Do.
Butte County, Unincorporated Areas | 460236 | November 24, 1998, Emerg; N/A, Reg; January 6, 2012, Susp | ......do | Do.
Custer, City of, Custer County | 460019 | April 11, 1973, Emerg; January 2, 1981, Reg; January 6, 2012, Susp | ......do | Do.
Custer County, Unincorporated Areas | 460018 | October 28, 1977, Emerg; September 29, 1986, Reg; January 6, 2012, Susp | ......do | Do.
Hermosa, Town of, Custer County | 460230 | July 24, 2003, Emerg; August 1, 2006, Reg; January 6, 2012, Susp | ......do | Do.
Woonsocket, City of, Sanborn County | 460075 | May 28, 1975, Emerg; November 15, 1985, Reg; January 6, 2012, Susp | ......do | Do.
*do- = Ditto.
Code for reading third column: Emerg.—Emergency; Reg.—Regular; Susp—Suspension.

Dated: December 9, 2011.
David L. Miller,
Associate Administrator, Federal Insurance and Mitigation Administration, Department of Homeland Security, Federal Emergency Management Agency.

[FR Doc. 2012-900 Filed 1-18-12; 8:45 am]

BILLING CODE 9110-12-P